DEPARTMENT OF HEALTH AND HUMAN SERVICES

Food and Drug Administration

21 CFR Part 112

[Docket No. FDA-2011-N-0921]

RIN 0910-ZA50

Standards for the Growing, Harvesting, Packing, and Holding of Produce for Human Consumption; Extension of Compliance Dates for Subpart E; Correction

AGENCY: Food and Drug Administration, HHS.

ACTION: Proposed rule; correction.

SUMMARY: The Food and Drug Administration (FDA, the Agency, or we) is correcting a proposed rule that published in the Federal Register of September 13, 2017. That proposed rule proposes to extend, for covered produce other than sprouts, the dates for compliance with the agricultural water provisions in the “Standards for the Growing, Harvesting, Packing, and Holding of Produce for Human Consumption” regulation. We are placing a corrected copy of the proposed rule in the docket.

DATES: October 13, 2017.

FOR FURTHER INFORMATION CONTACT: Samir Assar, Center for Food Safety and Applied Nutrition (HFS-317), Food and Drug Administration, 5001 Campus Dr., College Park, MD 20740, 240-402-1636.

SUPPLEMENTARY INFORMATION: In the Federal Register of September 13, 2017 (82 FR 42963), FDA published the proposed rule “Standards for the Growing, Harvesting, Packing, and Holding of Produce for Human Consumption; Extension of Compliance Dates for Subpart E” with an omission.

In FR Doc. 2017-19434, appearing on page 42963 in the Federal Register of September 13, 2017, the following correction is made:

On page 42967, in the third column, the paragraph above the table is corrected to include the fourth sentence as follows: “There would be a reduction in benefits associated with extending the compliance dates as described previously. Consumers eating non-sprout covered produce would not enjoy the potential health benefits (i.e., reduced risk of illness) provided by the provisions of subpart E until 2 to 4 years (depending on the specific provision) later than originally established in the produce safety regulation. Thus, the annualized total benefits to consumers, discounted at 3 percent over 10 years, would decrease by $108 million from $1.033 billion to $925 million. Taking into consideration both the reduction in costs and the reduction in benefits, using a 3 (7) percent discount rate, the proposed rule would have negative annualized net benefits of $96 ($97) million. Estimated changes in benefits and costs as a result of this proposed extension are summarized in the following table.”

Dated: October 10, 2017.
Anna K. Abram,
Deputy Commissioner for Policy, Planning, Legislation, and Analysis.

[FR Doc. 2017-22182 Filed 10-12-17; 8:45 am]

BILLING CODE 4164-01-P